DEPARTMENT OF TRANSPORTATION

National Highway Traffic Safety Administration

[U.S. DOT Docket No. NHTSA-2016-0038]

Reports, Forms, and Record Keeping Requirements

AGENCY: National Highway Traffic Safety Administration (NHTSA), DOT.

ACTION: Request for public comment on proposed collection of information.

SUMMARY: In compliance with the Paperwork Reduction Act of 1995, this notice announces that the Information Collection Request (ICR) abstracted below will be submitted to the Office of Management and Budget (OMB) for review. The ICR describes the nature of the information collection and its expected burden.

DATES: Comments must be received on or before September 15, 2017.

ADDRESSES: You may submit comments identified by DOT Docket ID Number NHTSA-2016-0038 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-(202) 493-2251.

Instructions: Each submission must include the Agency name and the Docket number for this Notice. Note that all comments received will be posted without change to http://www.regulations.gov including any personal information provided.

FOR FURTHER INFORMATION CONTACT: Amy Berning, Research Psychologist, NHTSA-NPD-130, 1200 New Jersey Avenue SE., W44-237, Washington, DC 20590. Ms. Berning's phone number is 202-366-5587 and her email address is amy.berning@dot.gov.

SUPPLEMENTARY INFORMATION:

OMB Control Number: None.

Title: Crash Risk Associated with Drug and Alcohol Use by Drivers in Fatal and Serious Injury Crashes.

Form No.:

Type of Review: Regular.

Respondents: Participants will include seriously or fatally injured crash-involved drivers (n = 2,500) and matched non-crash-involved drivers (n = 5,000). Crash-involved drivers will include seriously injured drivers who are transported to a trauma center by emergency medical services and fatally injured drivers who are transported directly to the medical examiner's office. Sampling will occur at three trauma centers and within the roadway catchment area served by the trauma center(s). Non-crash-involved drivers will be matched to injured drivers on crash day of the week, crash time of day, and crash direction of travel.

Estimated Time per Participant: Surveys will be administered to injured patients capable of responding and control participants to collect demographic information, trip information, self-reported drug/alcohol use, and opinions about driving while using alcohol/drugs. Control participants will also be asked to provide a preliminary breath test (PBT) sample. The expected average completion time for the survey, and PBT sample for controls, is 10 minutes. Data collection will include biological samples (i.e., blood) provided by both crash-involved and non-crash-involved drivers. Collection of the biological sample is expected to take approximately 10 minutes for control participants and less than 1 minute for seriously/fatally injured drivers. The total estimated time per participant is approximately 20 minutes.

Total Estimated Annual Burden Hours: 1,250 hours per year; for a total of 2,500 across two years.

Frequency of Collection: Each participant will only respond to the survey and biological sample requests a single time during the study period.

Abstract: The National Highway Traffic Safety Administration (NHTSA) seeks to examine the risk of being severely injured in a motor vehicle crash when drivers use licit and illicit drugs. This effort will involve studying seriously or fatally injured drivers in crashes and matched non-crash-involved drivers. Participants will include seriously injured drivers who are transported to a trauma center by emergency medical services and fatally injured drivers transported directly to the medical examiner's office. This study will employ a case-control design that matches two drivers not involved in a crash for every crash-involved driver. Control drivers will be selected at or near the location of the crash where a driver was seriously injured or killed. Researchers will match control drivers on crash day of the week, crash time of day, and crash direction of travel. Data collection will include a biological sample (i.e., blood) from both crash-involved and control drivers. Collection of samples from seriously injured drivers will be subject to State and Trauma Center policies regarding collection of fluid samples for research purposes. Samples from fatally injured drivers will be collected in accord with State, Trauma Center, and/or coroner/medical examiner policies. Self-report surveys will be administered to injured patients capable of responding and control participants to collect demographic information, reason for driving trip, self-reported drug/alcohol use, and opinions about driving while using alcohol/drugs. In the event a seriously injured driver is unconscious, the researcher will, if the driver is capable of responding, return later to collect the information. All participating control drivers will be asked to respond to the survey items, provide a preliminary breath test sample, and provide a biological sample.

Description of the Need for the Information and Proposed Use of the Information: NHTSA's mission is to save lives, prevent injuries and reduce traffic-related health care and other economic costs. The agency develops, promotes and implements educational, engineering and enforcement programs with the goal of ending preventable tragedies and reducing economic costs associated with vehicle use and highway travel. In 2010 and 2011, NHTSA conducted the first large-scale carefully controlled study in the U.S. designed to estimate the relative crash risk associated with drug use by drivers. Using a case-control design, researchers collected information from crash-involved and non-crash involved drivers in Virginia Beach, Virginia. That effort focused on acquiring data at crash sites and resulted in very few seriously or fatally injured drivers entering the sample. As such, it was not possible to assess the relationship between drug use and serious crashes. Other studies have examined the prevalence of drugs in seriously and fatally injured drivers, but none has used a case-control design such as the one proposed in the current study that will allow for an estimation of risk associated with drug use by drivers seriously injured or killed in a motor vehicle crash. Using the case-control approach in this manner will complete the relative risk assessment for the full range of injury severities using comparable methodologies.

The large sample of seriously and fatally injured drivers gathered by this project using a case-control methodology will lead to a better understanding of the relative crash risk of drug involved driving. The results of this project will assist NHTSA in determining how different drug classes are related to driver safety which will help the Agency provide guidance to the States and Federal Government as each considers policies related to drugged driving.

Authority: 44 U.S.C. Section 3506(c)(2)(A).

Issued in Washington, DC, on July 7, 2017.
Jeff Michael,
Associate Administrator, Research and Program Development.

[FR Doc. 2017-14916 Filed 7-14-17; 8:45 am]

BILLING CODE 4910-59-P